DEPARTMENT OF ENERGY

Federal Energy Regulatory Commission

Combined Notice of Filings # 1

December 15, 2008.

Take notice that the Commission received the following electric corporate filings:

Docket Numbers: EC09-29-000.

Applicants: Smoky Hills Wind Project II, LLC.

Description: Smoky Hills Wind Project II, LLC submits a redline of the revised application showing the changes requested by the Class B Equity Investors and Exhibit B-1 to the Application, etc.

Filed Date: 12/10/2008.

Accession Number: 20081212-0127.

Comment Date: 5 p.m. Eastern Time on Monday, December 22, 2008.

Take notice that the Commission received the following electric rate filings:

Docket Numbers: ER03-1002-001.

Applicants: PJM Interconnection, LLC.

Description: Monongahela Power Company submits a filing related to Buckeye's Network Integration Transmission Service Agreement.

Filed Date: 09/19/2008.

Accession Number: 20080919-5036.

Comment Date: 5 p.m. Eastern Time on Wednesday, December 24, 2008.

Docket Numbers: ER07-907-002.

Applicants: Bruce Power Inc.

Description: Bruce Power Inc. submits a request for Category 1 Seller classification for the Southeast Region et al etc.

Filed Date: 12/11/2008.

Accession Number: 20081212-0132.

Comment Date: 5 p.m. Eastern Time on Thursday, January 1, 2009.

Docket Numbers: ER09-399-000.

Applicants: Wabash Valley Power Association, Inc.

Description: Wabash Valley Power Association, Inc. submits a rate filing relating to the jurisdictional agreement.

Filed Date: 12/10/2008.

Accession Number: 20081212-0111.

Comment Date: 5 p.m. Eastern Time on Wednesday, December 31, 2008.

Docket Numbers: ER09-400-000.

Applicants: Geysers Power Company, LLC.

Description: Geysers Power Co., LLC submits a notice of termination of its Rate Schedule FERC No. 5.

Filed Date: 12/10/2008.

Accession Number: 20081212-0112.

Comment Date: 5 p.m. Eastern Time on Wednesday, December 31, 2008.

Docket Numbers: ER09-401-000.

Applicants: Southern California Edison Company.

Description: Southern California Edison submits the Inland Empire Energy Center Generation Tie-Line Facilities Agreement.

Filed Date: 12/10/2008.

Accession Number: 20081212-0113.

Comment Date: 5 p.m. Eastern Time on Wednesday, December 31, 2008.

Docket Numbers: ER09-402-000.

Applicants: Xcel Energy Operating Companies.

Description: Southwestern Public Service Co. submits a Connection Agreement with Central Valley Electric Coop, Inc.

Filed Date: 12/11/2008.

Accession Number: 20081215-0203.

Comment Date: 5 p.m. Eastern Time on Thursday, January 1, 2009.

Docket Numbers: ER09-403-000.

Applicants: Midwest Independent Transmission System.

Description: Midwest Independent Transmission System Operator, Inc. submits an executed Amended and Restated Generator Interconnection Agreement among the Midwest ISO, etc.

Filed Date: 12/10/2008.

Accession Number: 20081212-0126.

Comment Date: 5 p.m. Eastern Time on Wednesday, December 31, 2008.

Docket Numbers: ER09-404-000.

Applicants: Langdon Wind, LLC.

Description: Langdon Wind, LLC submits jurisdictional service agreement with Otter Tail Corp.

Filed Date: 12/11/2008.

Accession Number: 20081212-0134.

Comment Date: 5 p.m. Eastern Time on Thursday, January 1, 2009.

Docket Numbers: ER09-405-000.

Applicants: New York Independent System Operator, Inc.

Description: New York Independent System Operator, Inc. submits filing to formally notify FERC of a system modeling error in its Security Constrained Unit Commitment software that affected certain day-ahead market schedules and prices.

Filed Date: 12/11/2008.

Accession Number: 20081212-0133.

Comment Date: 5 p.m. Eastern Time on Thursday, January 1, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-30455 Filed 12-22-08; 8:45 am]

BILLING CODE 6717-01-P